DEPARTMENT OF THE INTERIOR

Fish and Wildlife Service

Meeting of the Alaska Migratory Bird Co-management Council

AGENCY: Fish and Wildlife Service, Interior.

ACTION: Notice of meeting.

SUMMARY: The Alaska Migratory Bird Co-management Council has scheduled a public meeting to continue development of recommendations for regulations for the spring/summer migratory bird subsistence harvest for the period between March 10 and September 1, 2002.

DATES: The co-management Council will meet April 26-27, 2001.

ADDRESSES: The meeting will be conducted at the Hawthorn Suites Hotel at 1110 W. 8th Avenue in Anchorage, Alaska.

FOR FURTHER INFORMATION CONTACT: For additional information call Mimi Hogan at 907/786-3673 or Bob Stevens at 907/786-3499. Individuals with a disability who may need special accommodations in order to participate in the public comment portion of the meeting should call one of the above numbers.

SUPPLEMENTARY INFORMATION: The U.S. Fish and Wildlife Service formed the Alaska Migratory Bird Co-Management Council, which includes Native, State, and Federal representatives as equals, by means of a Notice of Decision published in the Federal Register, 65 FR 16405-16409, March 28, 2000. The amended Migratory Bird Treaty with Canada required the formation of such a management body. The Co-management Council will make recommendations for, among other things, regulations for spring/summer harvesting of migratory birds in Alaska. In addition to creation of the Co-management Council, the Notice of Decision identified seven geographic regions. Each region will submit to the Co-management Council requests for specific regulations for its area. The Co-management Council will then develop recommendations for statewide regulations and submit them to the Fish and Wildlife Service for approval.

The meeting of the Co-management Council will begin Thursday, April 26 at 8:30 a.m. Sessions on April 27 will also begin at 8:30 a.m. The primary agenda item will be deliberation of recommendations for regulations. The public is invited to attend. The Co-management Council will provide opportunities for public comment on agenda items at the beginning of each day and at the close of the session on April 27. Additional opportunities may be provided at the discretion of the Co-management Council. Agendas will be available at the door.

Dated: March 22, 2001.
Gary Edwards,
Deputy Regional Director, Anchorage, Alaska.

[FR Doc. 01-8407 Filed 4-4-01; 8:45 am]

BILLING CODE 4310-55-U